DEPARTMENT OF JUSTICE

Notice of Lodging of Consent Decree Under the Comprehensive Environmental Response Compensation and Liability Act

Pursuant to 28 CFR 507 notice is hereby given that on August 16, 2007, a proposed Consent Decree in the Case United States v. Gwen Campbell Trust 1995 et al., Civil Action No. 07-05350 GHK (FFMx), was lodged with the United States District Court for the Central District of California.

In this action, under Sections 106 and 107 of CERCLA, 42 U.S.C. 9606 and 9607, the United States sought injunctive relief and recovery of response costs to remedy conditions in connection with the release or threatened release of hazardous substances into the environment at the Waste Disposal, Inc. Superfund Site in Santa Fe Springs, California (hereinafter referred to as the “Site” or “WDI Site.”

The defendants in this action own a portion of the WDI Site, and the purpose of the settlement is to provide to the United States the access and institutional controls or environmental restriction covenants which are required to perform the remedial action at the Site.

The Department of Justice will receive for a period of thirty (30) days from the date of this publication comments relating to the proposed Consent Decree. Comments should be addressed to the Assistant Attorney General, Environment and Natural Resources Division, U.S. Department of Justice, P.O. Box 7611, Washington, DC 20044-7611, and should refer to United States v. Gwen Campbell Trust 1995 et al., D.J. Ref. 90-11-2-1000/4.

The proposed Consent Decree may be examined at U.S. Environmental Protection Agency, Region IX, 75 Hawthorne Street, San Francisco, CA 94107. During the public comment period, the Consent Decree, may also be examined on the following Department of Justice Web site, http://www.usdoj.gov/enrd/open.html.

A copy of the proposed Consent Decree may also be obtained by mail from the Consent Decree Library, P.O. Box 7611, U.S. Department of Justice, Washington, DC 20044-7611, or by faxing Tonia Fleetwood at fax no. (202) 514-0097 (phone confirmation number (202) 514-1547) or by e-mailing Tonia Fleetwood at tonia.fleetwood@usdoj.gov. In requesting a copy of the Consent Decree from the Consent Decree Library, please enclose a check in the amount $69.50 (25 cents per page reproduction cost × 278 pages) payable to the U.S. Treasury. In requesting a copy of the Consent Decree, exclusive of exhibits, please enclose a check in the amount of $15.25 (25 cents per page reproduction cost × 61 pages) payable to the U.S. Treasury.

Henry S. Friedman
Assistant Section Chief, Environmental Enforcement Section.

[FR Doc. 07-4359 Filed 9-6-07; 8:45 am]

BILLING CODE 4410-15-M